DEPARTMENT OF DEFENSE

Department of the Army; Corps of Engineers

Intent to Prepare a Draft Environmental Impact Statement (DEIS) for the Morro Bay Estuary Feasibility Study, Morro Bay California

AGENCY: U.S. Army Corps of Engineers, DoD.

ACTION: Notice of intent.

SUMMARY: The Los Angeles District of the U.S. Army Corps of Engineers will prepare a DEIS to support the Morro Bay Estuary Feasibility Study, Morro Bay, California. The Study Area is the Morro Bay Estuary, which is located on the central coast of California within the City of Morro Bay, California. The Bay is approximately four miles long and one and three quarters miles at its maximum width. The central portion of the bay encompasses the delta of Chorro and Los Osos Creeks.

Morro Bay Estuary and associated wetlands provide valuable habitat for aquatic wildlife and are an important refuge for migratory birds and marine animals. Morro Bay is one of 28 estuaries in the Environmental Protection Agency's National Estuary Program.

The predominant problem that threatens the Morro Bay Estuary ecosystem is excessive sedimentation during periods of stormwater flows from Los Osos and Chorro Creeks. This results in significant increases in the volume of sediment deposited within the Bay. Deposition results in loss of wetlands as large-scale sedimentation promotes swift progression from marine to degraded salt marsh habitat. The Feasibility Study will focus on addressing the problems and needs caused by sediment deposition in the Morro Bay area. The DEIS will analyze the potential impacts (beneficial and adverse) on the environment for a range of alternatives, including the recommended plan.

The Los Angeles District, the Morro Bay national Estuary Program, and the County of San Luis Obispo will cooperate in conducting this Feasibility Study.

ADDRESSES: District Engineer, U.S. Army corps of Engineers, Los Angeles District, ATTN: CESPL-PD-RQ (R. Farve), P.O. Box 532711, Los Angeles, California 90053-2325.

FOR FURTHER INFORMATION CONTACT: Mr. Rey Farve, Environmental Coordinator, telephone (213)-452-3864, or Mr. Tony Risko, Chief, Coastal Studies Group, telephone (213)-452-3833.

SUPPLEMENTARY INFORMATION:

1. Authorization

This Feasibility Study was authorized by U.S. House Committee on Transportation and Infrastructure Resolution dated 7 May 1997 which states, in part: “Resolved by the Committee on Transportation and Infrastructure of the United States House of Representatives, that the Secretary of the Army is requested to review the report of the Chief of Engineers on Morro Bay Harbor, San Luis Obispo County, California published as House Document 103-33, 103rd Congress, 1st Session, and other pertinent reports to determine whether modifications of the recommendations contained therein are advisable at the present time in the interest of environmental protection and restoration and related purposes within the Morro Bay Estuary in Morro Bay, California.”

2. Background

Morro Bay Estuary is located on the central coast of California within the City of Morro Bay, California. The Morro Bay Estuary joined the Environmental Protection Agency's National Estuary Program in July 1995. The Bay contains the most significant wetland system on California's south central coast. It serves a critical environmental function on the Pacific coast and serves national and international interests, in that the Estuary supports several federally listed threatened or endangered species, many species of migratory birds protected by international treaties, and provides a protected harbor of offshore marine fisheries.

There are many known and potential threats to this nationally significant estuary. Sediment threatened to shorten the life of this open water resource by as much as ten-fold. Other water quality concerns include excessive levels of bacteria, nutrients, and heavy metals. Water diversion, urban and agricultural runoff, and increasing impervious surfaces threaten the long-term health of the Bay.

The predominant problem that threatens the Morro Bay Estuary ecosystem is excessive sedimentation during periods of stormwater flows from Lost Osos and Chorro Creeks. This results in significant increases in the volume of sediment deposited within the Bay. Deposition results in loss of wetlands as large-scale sedimentation promotes swift progression from marine to degraded salt marsh habitat.

The non-federal sponsor of the Feasibility Study is the County of San Luis Obispo.

3. Alternatives

The Feasibility Study will focus on addressing the problems and needs caused by sediment deposition in the Morro Bay area. In general, alternative plans will focus on reducing the uncontrolled sediment deposition within the backbay, and associated restoration of the ecosystem. Alternative plans will also consider improving tidal circulation and tidal flushing. Other measures to restore desired environmental conditions and habitat for federal threatened and endangered species will be formulated and addressed during coordination efforts with the general public and other resource agencies. Environmentally sensitive dredging methods will be explored, and alternate sites and uses for dredged material will be considered.

The primary undesirable impacts of concern from any of the alternatives will likely be related to disposal of dredged material, and construction impacts. These will be addressed in the study as part of the plan formulation of the Feasibility Study, and potential impacts will be analyzed in the DEIS.

4. Scoping Process

Participation of all interested Federal, State, and County agencies, groups with environmental interests, and any interested individuals is encouraged. Public involvement will be most beneficial and worthwhile in identifying the scope of pertinent, significant environmental issues to be addressed; identifying and eliminating from detailed study issues that are not significant; offering useful information such as published or unpublished data; providing direct personal experience or knowledge which informs decision making; and recommending suitable mitigation measures to offset potential impacts from the proposed action or alternatives.

A public scoping meeting is scheduled for November 1, 2001 in the City of Morro Bay. When available, the specific time and location of this meeting will be announced in a mailing to those on the mailing list developed for this project, and announced through local media channels. The purpose of the scoping meeting will be to gather information from the general public or interested organizations about issues and concerns that they would like to see addressed in the DEIS. Comments may be delivered in writing or verbally at the meeting or sent in writing to the Los Angeles District at the address given above. The scoping period will conclude 60 days after publication of this NOI.

5. Availability of the DEIS

The DEIS is expected to be available to the public for review and comment beginning in the fall of 2003.

Dated: October 12, 2001
Richard G. Thompson,
Colonel, Corps of Engineers, District Engineer.

[FR Doc. 01-26673 Filed 10-22-01; 8:45 am]

BILLING CODE 3710-KF-M